DEPARTMENT OF LABOR

Mine Safety and Health Administration

Proposed Information Collection Request Submitted for Public Comment and Recommendations; Fire Protection (Underground Coal Mines)

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Mine Safety and Health Administration (MSHA) is soliciting comments concerning the extension of the information collection related to the 30 CFR Sections 75.1100-3, 75.1101-23, 75.1103-8, & 75.1103-11; Fire Protection (Underground Coal Mines).

DATES: Submit comments on or before July 8, 2003.

ADDRESSES: Send comments to Jane Tarr, Management Analyst, Administration and Management, 1100 Wilson Boulevard, Room 2171, Arlington, VA 22209-3939. Commenters are encouraged to send their comments on computer disk, or via Internet E-mail to Tarr-Jane@Msha.Gov. Ms. Tarr can be reached at (202) 693-9824 (voice), or (202) 693-9801 (facsimile).

FOR FURTHER INFORMATION CONTACT: Jane Tarr, Management Analyst, Records Management Group, U.S. Department of Labor, Mine Safety and Health Administration, Room 2171, 1100 Wilson Boulevard, Arlington, VA 22209-3939. Ms. Tarr can be reached at Tarr-Jane@Msha.Gov (Internet E-mail), (202) 693-9824 (voice), or (202) 693-9801 (facsimile).

SUPPLEMENTARY INFORMATION:

I. Background

Under 30 CFR 75.1100-3, chemical fire extinguishers must be examined every 6 months and the date of the examination recorded on a permanent tag attached to the extinguisher. Under § 75.1101-23(a), operators of underground coal mines are required to establish a program for the instruction of all miners in the proper fire fighting and evacuation procedures to be followed in event of an emergency. The program includes a specific fire fighting and evacuation plan designed to acquaint miners on all shifts with procedures for: (i) Evacuation of all miners not required for fire fighting activities; (ii) rapid assembly and transportation of necessary people, fire suppression equipment, and rescue apparatus to the scene of the fire; and (iii) operation of the fire suppression equipment available in the mine. Under 75-1101-23(c), an underground coal mine operator is required to conduct fire drills at intervals of not more than 90 days. The operator is to certify by signature and date that fire drills were conducted in accordance with the approved program. Under § 75.1103-8, a qualified person must examine the automatic fire sensor and warning device systems on a weekly basis, and must conduct a functional test of the complete system at least once a year. Under § 75.1103-11, each fire hydrant and hose must be tested at least once a year, and the records of those tests shall be kept in an appropriate location.

II. Desired Focus of Comments

MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request can be obtained by contacting the employee listed in the For Further Information Contact section of this notice, or viewed on the Internet by accessing the MSHA home page (http://www.msha.gov) and then choosing “Statutory and Regulatory Information” and “Federal Register Documents.”

III. Current Actions

30 CFR 75.1100-3, 1101-23, 1103-8 & 11, requires chemical fire extinguishers to be examined every 6 months; requires operators to establish a program for the instruction of all miners in the proper fire fighting and evacuation procedures in the event of an emergency; requires operators to conduct fire drills; requires a qualified person to examine the automatic fire sensor and warning device systems; and requires that each fire hydrant and hose be tested.

Type of Review: Extension.

Agency: Mine Safety and Health Administration.

Title: Fire Protection (Underground Coal Mines).

OMB Number: 1219-0054.

Recordkeeping: § 75.1100-3 requires that after the examination of chemical fire extinguishers, the date of the examination be recorded on a permanent tag attached to the extinguisher. § 75.1101-23(c), requires that after conducting fire drills the operator must certify by signature and date that the fire drills were conducted. § 75.1103-8 requires the mine operator to maintain records of the annual functional test of the automatic fire sensor and warning device systems. And § 75.1103-11 requires that records be kept of each fire hydrant and hose test.

Frequency: On occasion.

Affected Public: Business or other for-profit.

Respondents: 893.

Estimated Time Per Response: 14 minutes.

Total Burden Hours: 77,122 hours.

Total Burden Cost (in thousands) (capital/startup): $0.

Total Burden Cost (operating/maintaining): $1.

Comments submitted in response to this notice will be summarized and/or included in the request for Office of Management and Budget approval of the information collection request; they will also become a matter of public record.

Dated at Arlington, Virginia, this 2nd day of May, 2003.
David L. Meyer,
Director, Office of Administration and Management.

[FR Doc. 03-11540 Filed 5-8-03; 8:45 am]

BILLING CODE 4510-43-U